ENVIRONMENTAL PROTECTION AGENCY

40 CFR Part 80

[EPA-HQ-OAR-2014-0905; FRL 9927-16-OAR]

RIN 2060-AS58

Approval of Alabama's Request To Relax the Federal Reid Vapor Pressure Gasoline Volatility Standard for Birmingham, Alabama

AGENCY: Environmental Protection Agency.

ACTION: Direct final rule.

SUMMARY: The Environmental Protection Agency (EPA) is taking direct final action to approve a request from the state of Alabama for the EPA to relax the Reid Vapor Pressure (RVP) standard applicable to gasoline introduced into commerce from June 1 to September 15 of each year for Jefferson and Shelby counties (“the Birmingham area”). Specifically, the EPA is approving amendments to the regulations to change the RVP standard for the Birmingham area from 7.8 pounds per square inch (psi) to 9.0 psi for gasoline. The EPA has determined that this change to the federal RVP regulation is consistent with the applicable provisions of the Clean Air Act (CAA). This action is being taken without prior proposal because the EPA believes that this rulemaking is noncontroversial for the reasons set forth in this preamble, and due to the limited scope of this action.

DATES: This rule is effective on July 6, 2015 without further notice unless the EPA receives adverse comment by June 8, 2015. If the EPA receives such comments, the EPA will publish a timely withdrawal of the direct final rule in the Federal Register and inform the public that the rule will not take effect.

ADDRESSES: Submit your comments, identified by Docket ID No. EPA-HQ-OAR-2014-0905, by one of the following methods:

• www.regulations.gov: Follow the on-line instructions for submitting comments.

• Email: a-and-r-Docket@epa.gov.

• Mail: Air Docket, Environmental Protection Agency, Mailcode: 6102T, 1200 Pennsylvania Ave. NW., Washington, DC, 20460, Attention Docket ID No. EPA-HQ-OAR-2014-0905. Please include a total of two copies.

• Hand Delivery: Air and Radiation Docket, EPA Docket Center, WJC West Building, Room 3334, 1301 Constitution Avenue NW., Washington, DC 20004. Attention Docket ID No. EPA-HQ-OAR-2014-0905. Please include two copies. Such deliveries are accepted only during the Docket's normal hours of operation, and special arrangements should be made for deliveries of boxed information.

Instructions: Direct your comments to Docket ID No. EPA-HQ-OAR-2014-0905. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means that the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket, visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Patty Klavon, Office of Transportation and Air Quality, Environmental Protection Agency, 2000 Traverwood Drive, Ann Arbor, Michigan, 48105; telephone number: (734) 214-4476; fax number: (734) 214-4052; email address: klavon.patty@epa.gov.

SUPPLEMENTARY INFORMATION: The contents of this preamble are listed in the following outline:

I. General Information

II. Action Being Taken

III. History of the Gasoline Volatility Requirement

IV. The EPA's Policy Regarding Relaxation of Volatility Standards in Ozone Nonattainment Areas That Are Redesignated as Attainment Areas

V. Alabama's Request To Relax the Federal RVP Requirement for the Birmingham Area

VI. Final Action

VII. Statutory and Executive Order Reviews

VIII. Legal Authority and Statutory Provisions

I. General Information

A. Why is the EPA issuing a direct final rule?

The EPA is making this revision as a direct final rule without prior proposal because the EPA views this revision as noncontroversial and anticipates no adverse comment. The rationale for this rulemaking is described in detail below. In the Proposed Rules section of this Federal Register, the EPA is publishing a separate document that will serve as the proposal to approve this revision to the RVP standard that applies in the Birmingham area should adverse comments be filed. If the EPA receives no adverse comment, the EPA will not take further action on the proposed rule. If the EPA receives adverse comment on this rule or any portion of this rule, the EPA will withdraw the direct final rule or the portion of the rule that received adverse comment. All public comments received will then be addressed in a subsequent final rule based on the proposed rule. The EPA will not institute a second comment period on this rulemaking. Any parties interested in commenting must do so at this time.

B. Does this action apply to me?

Entities potentially affected by this rule are fuel producers and distributors who do business in Alabama.

Examples of potentially regulated entities | NAICS ¹ codes
Petroleum refineries | 324110
Gasoline Marketers and Distributors | 424710 424720
Gasoline Retail Stations | 447110
Gasoline Transporters | 484220 484230

The above table is not intended to be exhaustive, but rather provides a guide for readers regarding entities likely to be regulated by this action. The table lists the types of entities of which the EPA is aware that potentially could be affected by this rule. Other types of entities not listed on the table could also be affected by this rule. To determine whether your organization could be affected by this rule, you should carefully examine the regulations in 40 CFR 80.27. If you have questions regarding the applicability of this action to a particular entity, call the person listed in the FOR FURTHER INFORMATION CONTACT section of this preamble.

¹ North American Industry Classification System.

C. What should I consider as I prepare my comments?

1. Submitting CBI

Do not submit CBI to the EPA through www.regulations.gov or email. Clearly mark the part or all of the information that you claim to be CBI. For CBI information in a disk or CD ROM that you mail to the EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments

When submitting comments, remember to:

• Identify the rulemaking by docket number and other identifying information (subject heading, Federal Register date and page number).

• Follow directions—The EPA may ask you to respond to specific questions or organize comments by referencing a Code of Federal Regulations (CFR) part or section number.

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

3. Docket Copying Costs

You may be required to pay a reasonable fee for copying docket materials.

II. Action Being Taken

This direct final rule approves a request from the state of Alabama to change the summertime RVP standard for Jefferson and Shelby counties (“the Birmingham area”) from 7.8 psi to 9.0 psi by amending the EPA's regulations at 40 CFR 80.27(a)(2). In a previous rulemaking, the EPA approved a state implementation plan (SIP) revision from the state of Alabama which provided a technical demonstration that relaxing the federal RVP requirement from 7.8 psi to 9.0 psi for gasoline sold from June 1 to September 15 of each year in the Birmingham area would not interfere with maintenance of the national ambient air quality standards (NAAQS) in the Birmingham area. For more information on Alabama's SIP revision, please refer to the April 17, 2015 rulemaking (80 FR 21170).

The preamble for this rulemaking is organized as follows: Section III. provides the history of the federal gasoline volatility regulation. Section IV. describes the policy regarding relaxation of volatility standards in ozone nonattainment areas that are redesignated as attainment areas. Section V. provides information specific to Alabama's request for the Birmingham area. Finally, Section VI. presents the final action in response to Alabama's request.

III. History of the Gasoline Volatility Requirement

On August 19, 1987 (52 FR 31274), the EPA determined that gasoline nationwide was becoming increasingly volatile, causing an increase in evaporative emissions from gasoline-powered vehicles and equipment. Evaporative emissions from gasoline, referred to as volatile organic compounds (VOC), are precursors to the formation of tropospheric ozone and contribute to the nation's ground-level ozone problem. Exposure to ground-level ozone can reduce lung function, thereby aggravating asthma and other respiratory conditions, increase susceptibility to respiratory infection, and may contribute to premature death in people with heart and lung disease.

The most common measure of fuel volatility that is useful in evaluating gasoline evaporative emissions is RVP. Under CAA section 211(c), the EPA promulgated regulations on March 22, 1989 (54 FR 11868) that set maximum limits for the RVP of gasoline sold during the regulatory control periods that were established on a state-by-state basis in the final rule. The regulatory control periods addressed the portion of the year when peak ozone concentrations were expected. These regulations constituted Phase I of a two-phase nationwide program, which was designed to reduce the volatility of gasoline during the high ozone season. On June 11, 1990 (55 FR 23658), the EPA promulgated more stringent volatility controls as Phase II of the volatility control program. These requirements established maximum RVP standards of 9.0 psi or 7.8 psi (depending on the state, the month, and the area's initial ozone attainment designation with respect to the 1-hour ozone NAAQS).

The 1990 CAA Amendments established a new section 211(h) to address fuel volatility. CAA section 211(h) requires the EPA to promulgate regulations making it unlawful to sell, offer for sale, dispense, supply, offer for supply, transport, or introduce into commerce gasoline with an RVP level in excess of 9.0 psi during the high ozone season. CAA section 211(h) also prohibits the EPA from establishing a volatility standard more stringent than 9.0 psi in an attainment area, except that the EPA may impose a lower (more stringent) standard in any former ozone nonattainment area redesignated to attainment.

On December 12, 1991 (56 FR 64704), the EPA modified the Phase II volatility regulations to be consistent with CAA section 211(h). The modified regulations prohibited the sale of gasoline with an RVP above 9.0 psi in all areas designated attainment for ozone, effective January 13, 1992. For areas designated as nonattainment, the regulations retained the original Phase II standards published on June 11, 1990 (55 FR 23658), which included the 7.8 psi ozone season limitation for certain areas. As stated in the preamble to the Phase II volatility controls and reiterated in the proposed change to the volatility standards published in 1991, the EPA will rely on states to initiate changes to their respective volatility programs. The EPA's policy for approving such changes is described below in Section IV. of this action.

The state of Alabama has initiated this change by requesting that the EPA relax the 7.8 psi RVP standard to 9.0 psi for the Birmingham area, which is subject to the 7.8 psi RVP requirement during the summertime ozone season. Accordingly, the state of Alabama provided a technical demonstration showing that relaxing the federal RVP requirement in the Birmingham area from 7.8 psi to 9.0 psi would not interfere with maintenance of the NAAQS or any other applicable requirement of the CAA. See Section V. of this action for information specific to Alabama's request for the Birmingham area.

IV. The EPA's Policy Regarding Relaxation of Volatility Standards in Ozone Nonattainment Areas That Are Redesignated to Attainment Areas

As stated in the preamble for the EPA's amended Phase II volatility standards (56 FR 64706), any change in the volatility standard for a nonattainment area that was subsequently redesignated as an attainment area must be accomplished through a separate rulemaking that revises the applicable standard for that area. Thus, for former 1-hour ozone nonattainment areas where the EPA mandated a Phase II volatility standard of 7.8 psi RVP in the December 12, 1991 rulemaking, the federal 7.8 psi RVP requirement remains in effect, even after such an area is redesignated to attainment, until a separate rulemaking is completed that relaxes the federal RVP standard in that area from 7.8 psi to 9.0 psi.

As explained in the December 12, 1991 rulemaking, the EPA believes that relaxation of an applicable RVP standard is best accomplished in conjunction with the redesignation process. In order for an ozone nonattainment area to be redesignated as an attainment area, CAA section 107(d)(3) requires the state to make a showing, pursuant to CAA section 175A, that the area is capable of maintaining attainment for the ozone NAAQS for ten years. Depending on the area's circumstances, this maintenance plan will either demonstrate that the area is capable of maintaining attainment for ten years without the more stringent volatility standard or that the more stringent volatility standard may be necessary for the area to maintain its attainment with the ozone NAAQS. Therefore, in the context of a request for redesignation, the EPA will not relax the volatility standard unless the state requests a relaxation and the maintenance plan demonstrates to the satisfaction of the EPA that the area will maintain attainment for ten years without the need for the more stringent volatility standard.

Alabama did not request relaxation of the federal RVP standard from 7.8 psi to 9.0 psi when the Birmingham area was redesignated to attainment for either the 1-hour ozone NAAQS or the 1997 ozone NAAQS. However, Alabama took a conservative approach in developing maintenance plans associated with those redesignation requests by estimating emissions using a federal RVP requirement of 9.0 psi.

V. Alabama's Request To Relax the Federal RVP Requirement for the Birmingham Area

In a May 12, 2006 final rule, the EPA approved the Birmingham area's redesignation request and maintenance plan for the 1997 ozone NAAQS. See 71 FR 27631 (May 12, 2006).² As required, the CAA section 175A maintenance plan provides for continued attainment and maintenance of the 1997 ozone NAAQS for at least ten years from the effective date of the Birmingham area's redesignation to attainment for the 1997 ozone NAAQS. This maintenance plan also includes components demonstrating how the Birmingham area will continue to attain the 1997 ozone NAAQS, and provides contingency measures should the Birmingham area violate that NAAQS. The state of Alabama's ozone redesignation request and maintenance plan for the Birmingham area did not remove the state-level 7.0 psi RVP requirement that was in place for the Birmingham area.³

² The Birmingham area (i.e., Jefferson and Shelby counties) was designated as unclassifiable/attainment for the 2008 ozone NAAQS effective July 20, 2012. See 77 FR 30088 (May 21, 2012).

³ In 2001, the EPA approved a state fuel program that imposed a more stringent 7.0 psi requirement for the Birmingham area, per CAA section 211(c)(4)(C). The low-RVP fuel program required that all gasoline sold during the summertime ozone season (June 1-September 15 of each year) in the Birmingham area contain a maximum RVP of 7.0 psi. See 66 FR 56218 (November 7, 2001).

On March 2, 2012, the state of Alabama, through the Alabama Department of Environmental Management (ADEM), submitted a proposed revision to Alabama's SIP removing the state-level RVP requirement to use 7.0 psi RVP gasoline in the Birmingham area during the summertime ozone season. The EPA approved the revision in an April 20, 2012 final rule. See 77 FR 23619. The revision to the Alabama SIP resulted in the federal RVP requirement of 7.8 psi applying to the Birmingham area.

On November 14, 2014, the state of Alabama submitted a proposed revision to its SIP demonstrating that removal of the federal RVP requirement of 7.8 psi for gasoline during the summer ozone season in the Birmingham area would not interfere with maintenance of any NAAQS. Specifically, the state provided a technical demonstration showing that relaxing the federal RVP requirements in the Birmingham area from 7.8 psi to 9.0 psi would not interfere with maintenance of the NAAQS or with any other applicable requirement of the CAA.

The EPA evaluated and approved Alabama's November 14, 2014 SIP revision in a previous rulemaking that was subject to public notice-and-comment. The EPA received two comments on that rulemaking, and those comments were addressed in the final rule for that rulemaking. See 80 FR 21170 (April 17, 2015). The comments received can be found in the docket for that rulemaking (EPA-R04-OAR-2014-0867).

In this action, the EPA is approving Alabama's request to relax the summertime ozone season RVP standard for the Birmingham area from 7.8 psi to 9.0 psi. This is based on the previous approval of Alabama's November 14, 2014 SIP revision, and the fact that the Birmingham area is currently in attainment for all ozone NAAQS.

VI. Final Action

The EPA is taking direct final action to approve the request from Alabama for the EPA to relax the RVP applicable to gasoline introduced into commerce from June 1 to September 15 of each year in the Birmingham area. Specifically, this action amends the applicable RVP standard from 7.8 psi to 9.0 psi provided at 40 CFR 80.27(a)(2) for the Birmingham area (i.e., Jefferson and Shelby counties, Alabama).

The EPA is making this revision without prior proposal because the EPA views the revision as noncontroversial and anticipates no adverse comment. However, in the Proposed Rules section of this Federal Register, the EPA is publishing a separate document that will serve as the proposal to approve this revision to the RVP standard that applies in the Birmingham area should adverse comments be filed. This rule will become effective July 6, 2015 without further notice unless the EPA receives adverse comments by June 8, 2015.

If the EPA receives adverse comments on the rule or any portion of the rule, the EPA will withdraw the direct final rule or the portion of the rule that received adverse comment. The EPA will publish a timely withdrawal in the Federal Register indicating which provisions will become effective and which provisions are being withdrawn. All public comments received will then be addressed in a subsequent final rule based on the proposed rule. The EPA will not institute a second comment period on the subsequent final action. Any parties interested in commenting must do so at this time. If no such comments are received, the public is advised that this rule will become effective on July 6, 2015 and no further action will be taken on the proposed rule.

VII. Statutory and Executive Order Reviews

A. Executive Order 12866: Regulatory Planning and Review and Executive Order 13563: Improving Regulation and Regulatory Review

This action is not a “significant regulatory action” under the terms of Executive Order 12866 (58 FR 51735, October 4, 1993) and is therefore not subject to review under Executive Orders 12866 and 13563. (76 FR 3821, January 21, 2011).

B. Paperwork Reduction Act

This action does not impose any new information collection burden under the provisions of the Paperwork Reduction Act, 44 U.S.C. 3501 et seq., and therefore is not subject to these requirements.

C. Regulatory Flexibility Act (RFA)

I certify that this action will not have a significant economic impact on a substantial number of small entities under the RFA. In making this determination, the impact of concern is any significant adverse economic impact on small entities. An agency may certify that a rule will not have a significant economic impact on a substantial number of small entities if the rule relieves regulatory burden, has no net burden or otherwise has a positive economic effect on the small entities subject to the rule. The small entities subject to the requirements of this action are refiners, importers or blenders of gasoline that choose to produce or import low RVP gasoline for sale in the Birmingham area and gasoline distributers and retail stations in the Birmingham area. This action relaxes the federal RVP standard for gasoline sold in the Birmingham area during the summertime ozone season (June 1 to September 15 of each year) from 7.8 psi to 9.0 psi. This rule does not impose any requirements or create impacts on small entities beyond those, if any, already required by or resulting from the CAA section 211(h) Volatility Control program. We have therefore concluded that this action will have no net regulatory burden for all directly regulated small entities.

D. Unfunded Mandates Reform Act (UMRA)

This final rule does not contain an unfunded mandate of $100 million or more as described in UMRA, 2 U.S.C. 1531-1538, and does not significantly or uniquely affect small governments. The action implements mandates specifically and explicitly set forth in CAA section 211(h) without the exercise of any policy discretion by the EPA.

E. Executive Order 13132 (Federalism)

This action does not have federalism implications. It will not have substantial direct effects on the states, on the relationship between the national government and the states, or on the distribution of power and responsibilities among the various levels of government.

F. Executive Order 13175: Consultation and Coordination With Indian Tribal Governments

This action does not have tribal implications, as specified in Executive Order 13175 (65 FR 67249, November 9, 2000). This final rule affects only those refiners, importers or blenders of gasoline that choose to produce or import low RVP gasoline for sale in the Birmingham area and gasoline distributers and retail stations in the Birmingham area. Thus, Executive Order 13175 does not apply to this action.

G. Executive Order 13045: Protection of Children From Environmental Health and Safety Risks

The EPA interprets Executive Order 13045 as applying only to those regulatory actions that concern environmental health or safety risks that the EPA has reason to believe may disproportionately affect children, per the definition of “covered regulatory action” in section 2-202 of the Executive Order. This action is not subject to Executive Order 13045 because it approves a state program.

H. Executive Order 13211: Actions Concerning Regulations That Significantly Affect Energy Supply, Distribution, or Use

This action is not subject to Executive Order 13211 because it is not a significant regulatory action under Executive Order 12866.

I. National Technology Transfer Advancement Act

This action does not involve technical standards.

J. Executive Order 12898: Federal Actions To Address Environmental Justice in Minority Populations and Low-Income Populations

The EPA believes the human health or environmental risk addressed by this action will not have potential disproportionately high and adverse human health or environmental effects on minority, low-income or indigenous populations because it does not affect the applicable ozone NAAQS which establish the level of protection provided to human health or the environment. This rule will relax the applicable volatility standard of gasoline during the summer, possibly resulting in slightly higher mobile source emissions. However, the state of Alabama has demonstrated in the Birmingham area's approved maintenance plan that this action will not interfere with attainment of the ozone NAAQS. Therefore, disproportionately high and adverse human health or environmental effects on minority or low-income populations are not an anticipated result. The results of this evaluation are contained in Section V. of this direct final rule. A copy of Alabama's November 14, 2014 letter requesting that the EPA relax the RVP standard, including the technical analysis demonstrating that the less stringent RVP in the Birmingham area would not interfere with continued maintenance of the 1997 ozone NAAQS or any other applicable standard, has been placed in the public docket for this action.

K. Congressional Review Act (CRA)

This action is subject to the CRA, and the EPA will submit a rule report to each House of the Congress and to the Comptroller General of the United States. This action is not a “major rule” as defined by 5 U.S.C. 804(2).

L. Petitions for Judicial Review

Under section 307(b)(1) of the Clean Air Act, petitions for judicial review of this action must be filed in the United States Court of Appeals for the appropriate circuit by June 8, 2015. Filing a petition for reconsideration by the Administrator of this direct final rule does not affect the finality of this action for the purposes of judicial review nor does it extend the time within which a petition for judicial review may be filed, and shall not postpone the effectiveness of such rule or action. Parties with objections to this direct final rule are encouraged to file a comment in response to the parallel document of proposed rulemaking for this action published in the Proposed Rules section of this Federal Register, rather than file an immediate petition for judicial review of this direct final rule, so that the EPA can withdraw this direct final rule and address the comment in the proposed rulemaking. This action may not be challenged later in proceedings to enforce its requirements. See CAA section 307(b)(2).

VIII. Legal Authority and Statutory Provisions

The statutory authority for this action is granted to the EPA by Sections 211(h) and 301(a) of the Clean Air Act, as amended; 42 U.S.C. 7545(h) and 7601(a).

List of Subjects in 40 CFR Part 80

Environmental protection, Administrative practice and procedures, Air pollution control, Fuel additives, Gasoline, Motor vehicle and motor vehicle engines, Motor vehicle pollution, Penalties, Reporting and recordkeeping requirements.

Dated: April 30, 2015.
Gina McCarthy,
Administrator.

For the reasons discussed in the preamble, the Environmental Protection Agency is amending 40 CFR part 80 as follows:

PART 80—REGULATION OF FUELS AND FUEL ADDITIVES

1. The authority citation for part 80 continues to read as follows:

Authority: 42 U.S.C. 7414, 7521, 7542, 7545, and 7601(a).

2. In § 80.27(a)(2)(ii), the table is amended by:

a. Revising the entry for Alabama; and

b. Adding footnote 8.

The revisions and additions read as follows:

§ 80.27 Controls and prohibitions on gasoline volatility.

(a) * * *

(2) * * *

(ii) * * *

Applicable Standards ¹ 1992 and Subsequent Years
State | May | June | July | August | September
Alabama ⁸ | 9.0 | 9.0 | 9.0 | 9.0 | 9.0
* * * * * * *
¹ Standards are expressed in pounds per square inch (psi).
* * * * * * *
⁸ The standard for Jefferson and Shelby Counties from June 1 until September 15 in 1992 through July 6, 2015 was 7.8 psi.
* * * * * * *

[FR Doc. 2015-10616 Filed 5-6-15; 8:45 am]

BILLING CODE 6560-50-P